DEPARTMENT OF STATE

[Public Notice: 10238]

Advisory Committee on International Postal and Delivery Services

AGENCY: Department of State.

ACTION: Solicitation of expressions of interest from members of the public wishing to serve as representative members of the Department of State's Advisory Committee on International Postal and Delivery Services (IPoDS).

This notice announces that applications are now being accepted from members of the public who wish to join the IPoDS Committee, which was established in accordance with the provisions of 39 U.S.C. 407(b)(3) and the Federal Advisory Committee Act, 5 U.S.C. Appendix.

Under the terms of its authorizing statute and its charter, the members of the IPoDS Committee represent mailers, private sector delivery companies, stakeholders in international delivery services or others who are directly affected by international postal operations. (The Committee also includes Federal members from several U.S. Government agencies including the Postal Regulatory Commission and the United States Postal Service.) Members are appointed by the Assistant Secretary of State for International Organization Affairs. The Committee provides advice to the Department of State with respect to U.S. foreign policy related to international postal services and other international delivery services and U.S. policy toward the Universal Postal Union and other international postal and delivery organizations. Representative members of the Committee serve on a voluntary basis and without compensation.

In order to be appointed to the Committee, interested individuals must represent identifiable groups or entities that are users or providers of international postal or delivery services or others directly affected by international postal operations. There is no specified form for applications. New prospective Committee members should submit a letter expressing their interest in serving that explicitly identifies the group or entity they represent. They should also include a clear statement of the connection of that group or entity to the use or provision of international postal or delivery services. Letters should also describe the prospective member's relevant qualifications and experience and may be accompanied by supporting documentation, such as a biographic statement or resume. Confirmation from the group or entity represented that the prospective member is authorized to represent that group or entity on the Committee must be submitted. Inclusion of an email address and/or telephone number in each applicant's submission will speed communications.

Letters of interest should be no more than four pages in length and should be addressed to Joseph P. Murphy, the IPoDS Committee's designated federal officer. Prospective Committee members may submit scanned copies of their letters electronically to Mr. Murphy by email to murphyjp@state.gov and/or by U.S. Mail to IO/STA, L409 (SA1); Department of State; 2401 E Street NW, Washington, DC 20037. The deadline for receipt of applications is 12 January 2018.

FOR FURTHER INFORMATION CONTACT: Please contact Ms. Shereece Robinson of the Office of Specialized and Technical Agencies (IO/STA), Bureau of International Organization Affairs, U.S. Department of State, at tel. (202) 663-2649, by email at RobinsonSA2@state.gov.

Joseph P. Murphy,
Designated Federal Officer, Advisory Committee on International Postal And Delivery Services, Office of Specialized and Technical Agencies, Bureau of International Organization Affairs, Department of State.

[FR Doc. 2017-28408 Filed 1-2-18; 8:45 am]

BILLING CODE 4710-19-P